DEPARTMENT OF THE INTERIOR

Fish and Wildlife Service

Notice of Availability of the Draft Comprehensive Conservation Plan and Environmental Assessment for Catahoula National Wildlife Refuge

AGENCY: Fish and Wildlife Service, Interior.

ACTION: Notice of availability.

SUMMARY: The Fish and Wildlife Service announces that a Draft Comprehensive Conservation Plan and Environmental Assessment (Draft CCP/EA) for Catahoula National Wildlife Refuge is available for distribution. The National Wildlife Refuge System Administration Act of 1966, as amended by the National Wildlife Refuge System Improvement Act of 1997, requires the Service to develop a comprehensive conservation plan for each national wildlife refuge. This Draft CCP, when final, will describe how the Service intends to manage Catahoula National Wildlife Refuge over the next 15 years.

DATES: Written comments must be received at the postal address listed below no later than May 21, 2007.

ADDRESSES: To provide written comments or to obtain a copy of the Draft CCP/EA, please write to: Central Louisiana National Wildlife Refuge Complex, 401 Island Road, Marksville, Louisiana 71351; or telephone: 318/253-4238. The Draft CCP/EA may also be accessed and downloaded from the Service's Internet Site: http://southeast.fws.gov/planning/.

SUPPLEMENTARY INFORMATION: All comments received become part of the official public record. Requests for such comments will be handled in accordance with the Freedom of Information Act and other Service and Departmental policies and procedures.

Catahoula National Wildlife Refuge was established in 1958 primarily as a wintering area for migratory waterfowl. The refuge, located in east-central LaSalle Parish, and west-central Catahoula Parish, Louisiana, about 30 miles northeast of Alexandria, and 12 miles east of Jena, now totals 25,242 acres. The 6,671-acre Headquarters Unit borders nine miles of the northeast shore of Catahoula Lake, a 26,000-acre natural wetland renowned for its large concentrations of migratory waterfowl. The 18,571-acre Bushley Bayou Unit, located eight miles west of Jonesville, was established in May 2001. The acquisition was made possible through a partnership agreement between The Conservation Fund, American Electric Power, and the Fish and Wildlife Service.

Significant issues addressed in the Draft CCP/EA include: Waterfowl management, bottomland hardwood reforestation and management, refuge access, land acquisition, visitor services (i.e., hunting, fishing, wildlife observation, wildlife photography, and environmental education and interpretation), cultural resources, and minor boundary expansion. The Service developed three alternatives for management of the refuge (alternatives A, B, and C), with Alternative B as the proposed alternative.

Alternative A represents no change from current management of the refuge. Under this alternative, existing refuge management practices and uses would continue. All management actions would be directed towards achieving the refuge's primary purposes, which include: (1) To provide migrating and wintering habitat for migratory waterfowl consistent with the overall objectives of the Mississippi Flyway; (2) to provide nesting habitat for wood ducks; (3) to provide habitat and protection for threatened and endangered species; and (4) to manage bottomland hardwoods and provide habitat for a natural wildlife diversity. Management programs would continue to be developed and implemented with limited baseline biological information. Active wetland management would be implemented by continuing water level manipulations for moist soil. Grassland and forest management actions are designed to provide diversified foraging, resting, and breeding habitat for a variety of species and would be implemented only when resources are available. Land would be acquired from willing sellers within the current 28,254-acre acquisition boundary. Oil and gas operations would continue under current special use permits, with little opportunity to prevent potential risks of spills. There would be no water quality surveys or pollution prevention measures for improving or providing increased protection of refuge lands and water. Hunting and fishing would continue to be the major focus of the public use program, with no expansion of current opportunities.

Alternative B, the proposed alternative, is considered to be the most effective management action for meeting the purposes of the refuge by adding more staff, equipment, and facilities in order to provide greater enhancement and management of habitats and associated plant communities for the greater benefit of wildlife. Extensive wildlife and plant census and inventory activities would be initiated to obtain the biological information needed to implement management programs on the refuge. The refuge would improve migratory waterfowl habitat, the wood duck nest box program, habitat to support breeding pairs of wading birds, and migration habitat for southbound and northbound shorebirds. Habitat management activities would focus on providing healthy bottomland hardwood forests, moist-soil units, and grasslands needed to achieve wildlife population objectives. Forested habitat would be managed to establish a multi-layered canopy that promotes and maintains structural and plant species diversity and ultimately supports key species of migratory and resident species. To improve habitat for grassland birds, the refuge would work with the Natural Resources Conservation Service to replant the 95-acre Willow Lake area with native warm-season grasses. The refuge would inventory and more aggressively monitor, control, and, where possible, eliminate invasive plants. An archaeological survey to identify potential cultural resources would help in planning for land protection.

The refuge would work closely with partners to acquire or exchange lands with willing in-holding landowners and to expand the current acquisition boundary by 2,824 acres in order to improve access for refuge staff and the public. The refuge would continue to identify and eliminate potential spill risks from oil and gas activities, to continue the refuge special use permit system, and to provide monitoring for first alert in spill events.

Hunting, fishing, wildlife observation, wildlife photography, and environmental education and interpretation opportunities would be improved. Youth hunts, handicap-accessible blinds, improved access for bank fishing, replacement of the observation tower and an additional tower, and supporting environmental-based curricula in the local schools are some of the improvements planned under Alternative B. In addition, the current office facility would be expanded to accommodate an environmental education display and an interpretive display. Additional staff would include a biologist, forester, park ranger (law enforcement), engineering equipment operator, maintenance worker, assistant refuge manager, and park ranger (interpretive) to accomplish objectives for establishing baseline data on refuge resources, for managing habitats, and for adequate protection of wildlife and visitors.

Alternative C would maximize endemic bottomland hardwood forest with minimal management. Under this alternative, there would be no active management of refuge resources. Grasslands would be left fallow and moist-soil units would not be actively managed. Bottomland hardwood forests would be left to mature with no active management. Wood duck nest boxes would be left in place and banding quotas would not typically be met. There would be no active management of marshbird, long-legged wader, shorebird, or forest breeding bird habitat. The refuge would continue to support bald eagle management guidelines when nests are encountered. The refuge would continue to attempt to acquire land from willing sellers within the current 28,254-acre acquisition boundary, but would plan no additional active management for these lands. Oil and gas operations would continue under current special use permits, with little opportunity to prevent potential risks of spills. There would be no water quality surveys or pollution prevention measures for improving or providing increased protection of refuge lands and water. An archaeological survey to determine if there are any cultural resources present would be used in planning for land protection.

A limited amount of deer, duck, and small game hunting would continue and the refuge would maintain current recreational fishing. The current facilities for wildlife observation and photography, such as the observation tower, nature trails, and wildlife drive pull-offs, would be maintained and enhanced. Environmental education and interpretation requests would be increased and would be accommodated with the addition of a park ranger (interpretive). Enforcement of refuge regulations and protection of wildlife and visitors would continue at current levels.

FOR FURTHER INFORMATION CONTACT: Tina Chouinard, Planning Team Leader, Central Louisiana National Wildlife Refuge Complex, Telephone: 318/253-4238; Fax: 318/253-7139; e-mail: tina_chouinard@fws.gov; or by writing to the address in the ADDRESSES section.

Authority: This notice is published under the authority of the National Wildlife Refuge System Improvement Act of 1997, Pub. L. 105-57.

Dated: December 19, 2006.
Cynthia K. Dohner,
Acting Regional Director.

Editorial Note: This document was received at the Office of the Federal Register on April 16, 2007.

[FR Doc. E7-7432 Filed 4-18-07; 8:45 am]

BILLING CODE 4310-55-P